DEPARTMENT OF AGRICULTURE

Forest Service

Notice of New Fee Site

AGENCY: Monongahela National Forest, USDA Forest Service.

ACTION: Notice of New Fee Site.

SUMMARY: The Monongahela National Forest is proposing to charge $10.00 per night for single unit sites and $20.00 per night for double unit sites at Island Campground on the Greenbrier Ranger District. The Forest recently finished reconstruction of Island Campground which included relocating and upgrading the campground to provide a safe, fully accessible, 12-unit campground. Prior to reconstruction, this was a small, primitive campground with very few amenities. Fees for overnight use will be used for the continued operation and maintenance of Island Campground.

DATES: Send any comments about this fee proposal by November 1, 2013 so comments can be compiled, analyzed and shared with the Eastern Region Recreation Resource Advisory Committee.

ADDRESSES: Forest Supervisor, Monongahela National Forest, 200 Sycamore Street, Elkins, WV 26241.

FOR FURTHER INFORMATION CONTACT: Eric Sandeno, Recreation Program Manager, 304-636-1800.

SUPPLEMENTARY INFORMATION: The Federal Recreation Lands Enhancement Act (Title VII, Pub. L. 108-447) directed the Secretary of Agriculture to publish a six month advance notice in the Federal Register whenever new recreation fee areas are established.

This new fee will be reviewed by the Eastern Region Recreation Resource Advisory Committee prior to a final decision and implementation by the Regional Forester, Eastern Region, USDA Forest Service.

The Monongahela National Forest made upgrades to Island Campground based on public input and support. A market comparison indicates that the $10.00 per night for single unit sites and $20.00 per night for double unit sites is both reasonable and acceptable for this sort of recreation experience.

Authority: Federal Lands Recreation Enhancement Act, (Title VIII, Pub. L. 108-447).

Dated: August 23, 2013.
Clyde N. Thompson,
Monongahela National Forest Supervisor.

[FR Doc. 2013-21224 Filed 8-29-13; 8:45 am]

BILLING CODE 3410-11-P